DEPARTMENT OF TRANSPORTATION

Federal Highway Administration

[Docket No. FHWA-2024-0073]

Notice of Intent To Prepare an Environmental Impact Statement for the Chesapeake Bay Crossing Study: Tier 2 National Environmental Policy Act (NEPA)

AGENCY: Federal Highway Administration (FHWA), U.S. Department of Transportation (USDOT).

ACTION: Notice of Intent (NOI) to prepare an environmental impact statement (EIS).

SUMMARY: The FHWA, in coordination with the Maryland Transportation Authority (MDTA), is issuing this Notice of Intent to solicit comments and advise the public, agencies, and stakeholders that an environmental impact statement will be prepared for the Chesapeake Bay Crossing Study: Tier 2 NEPA (Tier 2 Study) to address existing and future transportation issues at the William Preston Lane, Jr. Memorial (Bay) Bridge and its approaches along U.S. 50/301, from Anne Arundel County on the Western Shore to Queen Anne's County on the Eastern Shore, in Maryland. The unique identification number for this project is EISX—XMD-1729253019. This NOI contains a summary of the information required in the Council on Environmental Quality (CEQ) regulations. This NOI should be reviewed together with the NOI Additional Project Information Document, which contains important details about the study, information on the Purpose and Need for the proposed action, alternatives considered, and expected impacts on the human, natural, and built environments. Persons and agencies who may be interested in or affected by the proposed study are encouraged to comment on the information in this NOI and the NOI Additional Project Information Document.

DATES: Comments on the NOI or the NOI Additional Information documents must be received on or before January 13, 2025.

ADDRESSES: This NOI and the NOI Additional Project Information Document are also available in the docket referenced above at www.regulations.gov and on the Tier 2 Study website located at https://baycrossingstudy.com.

Comments on the NOI or the NOI Additional Project Information Document can be submitted through the methods outlined below:

• Website: For access to the documents, go to the Federal Rulemaking Portal located at www.regulations.gov or the project website located at https://baycrossingstudy.com. Follow the online instructions for submitting comments at www.regulations.gov.

• Mailing address or for hand delivery or courier: Docket Management Facility, U.S. Department of Transportation, 1200 New Jersey Avenue SE, West Building Ground Floor, Room W12-140, Washington, DC 20590.

• https://baycrossingstudy.com.

• Mailing address or for hand delivery or courier: Maryland Transportation Authority, Division of Planning & Program Development, Bay Crossing Study, 2310 Broening Highway, Baltimore, Maryland 21224.

• Email: info@baycrossingstudy.com.

• Call: 667-203-5408.

All comment submissions should include the agency name and docket number that appear in the heading of this notice. The comments received by the comment period end date of January 13, 2025, will be posted without change to www.regulations.gov, including any personal information provided. A summary of the comments received will be included in the forthcoming Draft EIS (DEIS).

For tracking purposes, the unique identification number for this project is EISX—XMD-1729253019.

FOR FURTHER INFORMATION CONTACT: Heather Lowe, Project Manager. Maryland Transportation Authority, Division of Planning & Program Development, 2310 Broening Highway, Baltimore, MD 21224; Phone: (410) 537-5665; Email: info@baycrossingstudy.com; or Alexander Bienko, Environmental Protection Specialist. Federal Highway Administration, Maryland Division, 31 Hopkins Plaza, Suite 1520, Baltimore, MD 21201; Phone: (410) 779-7148; Email: alexander.bienko@dot.gov.

Interested parties can also sign up for the Tier 2 Study mailing list located at https://baycrossingstudy.com to receive notifications for future study information and upcoming public engagement opportunities.

SUPPLEMENTARY INFORMATION: The FHWA, as lead Federal agency, and the MDTA, as the project sponsor, will prepare an EIS for the Tier 2 Study, in compliance with the National Environmental Policy Act (NEPA) of 1969, as amended (42 United States Code [U.S.C.] 4321, et seq.), 23 U.S.C. 139, CEQ regulations implementing NEPA (40 CFR 1500-1508), FHWA regulations implementing NEPA (23 CFR 771.101-771.139), and applicable Federal, State, and local governmental laws and regulations.

Project Background

The Chesapeake Bay Crossing Study (Bay Crossing Study) is a two-tiered preliminary engineering and environmental study to address existing and future transportation issues at the Bay Bridge and its approaches along U.S. 50/301. The Bay Bridge is a two-span structure that crosses the Chesapeake Bay from Anne Arundel County on the Western Shore to Queen Anne's County on the Eastern Shore.

The MDTA and FHWA initiated Tier 1 of the Bay Crossing Study (Tier 1 Study) in 2016. The Tier 1 Study EIS encompassed a broad geographic area that spanned nearly 100 miles of the Chesapeake Bay between Harford and Cecil counties to the north, and St. Mary's and Somerset counties to the south. The Tier 1 Study EIS defined existing and future transportation conditions and needs at the existing Bay Bridge, evaluated 14 possible corridor alternative locations, documented the corridor alternative screening process, and concluded with the identification of a Selected Corridor Alternative. The Tier 1 Study was completed in April 2022 when FHWA issued a Final EIS/Record of Decision (FEIS/ROD) identifying the corridor including the existing Bay Bridge and its approaches (Corridor 7) as the Selected Corridor Alternative for further evaluation in a Tier 2 Study. Activities for the Tier 2 Study were launched in June 2022.

The Tier 2 Study, a project-level (site-specific) analysis, will describe potential environmental effects and evaluate alternatives of the proposed action. To ensure that all potential alternatives, important issues, or significant environmental effects and analyses relevant to the proposed action are considered in the EIS, comments and suggestions are invited from all affected or interested parties. The FHWA requests comments on the purpose and need, reasonable range of alternatives for evaluation in the EIS, existing environmental conditions and potential impacts, and identification of any relevant information, studies, or analyses concerning impacts affecting the quality of the human or natural environment. The purpose of this request is to bring relevant comments and information to FHWA's and MDTA's attention as early in the process as possible to enable the agencies involved to make maximum use of this information in the decision-making process. Comments may be submitted according to the instructions in the ADDRESSES section of this notice.

Purpose and Need for the Proposed Action

The Tier 1 Study purpose was to consider corridors for providing additional capacity and access across the Chesapeake Bay in order to improve mobility, travel reliability, and safety at the existing Bay Bridge. The evaluation of potential corridors included assessments of existing and potentially expanded transportation infrastructure needed to support additional capacity, improve travel times, and accommodate maintenance activities, while considering financial viability and environmental responsibility. The Selected Corridor Alternative was chosen because it would provide the greatest congestion relief at the existing bridge crossing for existing and future traffic volumes, particularly at peak hours, thus having the greatest ability to meet the Purpose and Need of the Tier 1 Study EIS.

The transportation issues identified during the Tier 1 Study have been further developed and refined to better describe the specific needs for the Tier 2 Study. The purpose of the Tier 2 Study is to address existing and future transportation capacity needs and access across the Chesapeake Bay and at the Chesapeake Bay Bridge approaches along the U.S. 50/301 corridor. The Tier 2 Study is evaluating measures to reduce congestion; improve travel times and reliability, mobility, and roadway deficiencies; and accommodate maintenance activities and navigation while minimizing impacts to local communities and the environment. The Tier 2 Study is also considering objectives for environmental responsibility, as well as cost and financial responsibility.

The Purpose and Need for the Tier 2 Study EIS was developed in close coordination with Cooperating and Participating agencies (see section 7.4 below or appendix B (Coordination Plan) for a list of Cooperating and Participating agencies). The MDTA presented the draft preliminary purpose and need to these agencies and the public in 2023 for comment. Based on the comments received, the MDTA completed a Preliminary Purpose and Need Statement and Report and received concurrence from the Cooperating agencies in 2024. The complete Tier 2 Study Preliminary Purpose and Need Statement and Report may be reviewed in Appendix A to the NOI Additional Project Information Document, which is available in the docket established for this study and on the study website. Comments on the Preliminary Purpose and Need for the study are welcomed during the NOI comment period.

Preliminary Description of the Proposed Action and Alternatives the Environmental Impact Statement Will Consider

The MDTA and FHWA propose to evaluate additional transportation capacity across the Chesapeake Bay along the U.S. 50/301 corridor (Corridor 7 from the Tier 1 Study EIS). The study limits for the Tier 2 Study EIS extend from the MD 2/MD 450 interchange on the Western Shore to the U.S. 50/301 split on the Eastern Shore. As part of the proposed action, the MDTA proposes removing the existing two Bay Bridge spans and replacing them with a new two-span bridge over the Chesapeake Bay.

The MDTA has identified seven alternatives for the proposed action, including the no-build alternative and six build alternatives. These alternatives comprise the reasonable range of alternatives that will be evaluated in the Tier 2 Study EIS and are the MDTA's proposed Alternatives Retained for Detailed Study (ARDS). The proposed build alternatives would provide additional transportation capacity across the Chesapeake Bay on a new two-span bridge that would fully replace the travel lanes on the existing Bay Bridge spans. Consistent with FHWA and CEQ regulations, the No-Build Alternative is being considered and will be evaluated in the Tier 2 Study EIS. The proposed ARDS are:

• Alternative A—No-Build: retains the existing Chesapeake Bay Bridge, the U.S. 50/301 alignment, and the existing number of lanes: 6 lanes along U.S. 50/301 on the Western Shore, 5 lanes across the Chesapeake Bay on the existing bridge, and 6 lanes along U.S. 50/301 on the Eastern Shore

• Alternative B—6-8-6 North: 6 lanes along U.S. 50/301 on the Western Shore, 8 lanes across the Chesapeake Bay on a new bridge to the north of the existing bridge, and 6 lanes along U.S. 50/301 on the Eastern Shore

• Alternative C—6-8-6 South: 6 lanes along U.S. 50/301 on the Western Shore, 8 lanes across the Chesapeake Bay on a new bridge to the south of the existing bridge, and 6 lanes along U.S. 50/301 on the Eastern Shore

• Alternative D—8-8-8 North: 8 lanes along U.S. 50/301 on the Western Shore, 8 lanes across the Chesapeake Bay on a new bridge to the north of the existing bridge, 8 lanes along U.S. 50/301 on the Eastern Shore

• Alternative E—8-8-8 South: 8 lanes along U.S. 50/301 on the Western Shore, 8 lanes across the Chesapeake Bay on a new bridge to the south of the existing bridge, 8 lanes along U.S. 50/301 on the Eastern Shore

• Alternative F—8-10-8 North: 8 lanes along U.S. 50/301 on the Western Shore, 10 lanes across the Chesapeake Bay on a new bridge to the north of the existing bridge, 8 lanes along U.S. 50/301 on the Eastern Shore

• Alternative G—8-10-8 South: 8 lanes along U.S. 50/301 on the Western Shore, 10 lanes across the Chesapeake Bay on a new bridge to the south of the existing bridge, 8 lanes along U.S. 50/301 on the Eastern Shore

All proposed build alternatives also include potential bus service improvements, Transportation System Management (TSM)/Transportation Demand Management (TDM) improvements, and consideration for the safe inclusion of a pedestrian/bicycle shared use path on the new bridge. Additional information on the proposed ARDS, as well as maps and figures illustrating the study location are provided in the NOI Additional Project Information Document.

Based on the public and agency comments received in response to this NOI and the public scoping meetings, MDTA and FHWA will determine the reasonable range of alternatives. These will be identified and evaluated as the ARDS in the Tier 2 DEIS.

The MDTA and FHWA considered a number of additional options regarding the structure type, number of lanes, bridge location, travel mode (e.g., transit, ferry), and TSM/TDM strategies. These include a full-length tunnel, bridge-tunnel, double decker bridge, a 6-6-6 lane configuration, a 10-10-10 lane configuration, new bridge location fully between the existing Bay Bridge spans, a far-south new bridge location, ferry, high-capacity transit, ramp metering, express-local lanes, managed lanes, and a combined transit/TSM/TDM option. These options are not included in the proposed ARDS because MDTA does not consider them reasonable given the study's needs and objectives. Further information on the additional options considered but not recommended for advancement is included in the NOI Additional Project Information Document. The NOI Additional Project Information Document is available for review in the docket established for this study and on the Chesapeake Bay Crossing Study website as noted in the ADDRESSES section.

Brief Summary of Expected Effects

The Tier 2 Study EIS will evaluate potential effects to the human environment resulting from the reasonable range of alternatives. Based on information from the Tier 1 Study FEIS/ROD and early review of existing environmental conditions within and in proximity to U.S. 50/301 within the EIS study limits, the proposed action could result in direct, indirect, and/or cumulative effects to the following resources and environmental conditions:

• Socioeconomic resources and land use (including communities and land use; economics and employment; and visual resources)

• Minority and low-income populations

• Cultural and historic resources

• Section 4(f) and section 6(f) properties (including parks and recreational areas)

• Natural resources (such as wetlands and waters; floodplains; water quality; Coastal Barrier Resource Systems and Chesapeake Bay Critical Areas; aquatic and terrestrial habitat and biota; rare, threatened, and endangered species; unique and sensitive areas; and hydrodynamics)

• Hazardous materials

• Air quality

• Greenhouse gas (GHG) and climate change

• Noise

Direct, indirect, and cumulative effects to these resources will be assessed in the Tier 2 Study EIS. Based on data collection, evaluation, and coordination with regulatory agencies and the public to date, it is anticipated that potential effects to natural resources, socioeconomic resources and land use, minority and low-income populations, cultural and historic resources, and section 4(f) and section 6(f) properties will be the focus of the Tier 2 Study EIS impact analysis.

• Natural Resources: Wetlands and water resources, as well as the terrestrial environment including forests, could be impacted by the proposed build alternatives.

• Socioeconomic Resources and Land Use: Potential effects to socioeconomic resources and land use include conversion of agriculture, forest, wetland, commercial, residential, and industrial land use adjacent to the U.S. 50/301 roadway right-of-way (ROW).

• Minority and Low-Income Populations: Potential effects to minority and low-income populations due to construction of a build alternative include, but are not limited to, conversion of commercial, residential, and industrial properties adjacent to the roadway ROW, as well as other potential environmental effects such as from noise and air quality that could affect these populations.

• Cultural and Historic Resources: Cultural, historic and archaeological resources may be affected by the proposed build alternatives.

• Section 4(f) and section 6(f) Properties: The build alternatives could result in permanent or temporary use of properties protected by section 4(f) of the U.S. Department of Transportation Act within the study limits. A Section 4(f) Evaluation will be prepared to assess the potential permanent, temporary, constructive, or de minimis use of section 4(f) properties. Analysis of potential impacts to properties protected by section 6(f) of the Land and Water Conservation Fund Act will also be conducted to determine whether a conversion of any section 6(f) property would occur.

Additional information on the expected impacts, including quantification of direct environmental resource impacts potentially caused by the proposed ARDS, is provided in the NOI Additional Project Information Document available for review in the docket established for this study and on the Chesapeake Bay Crossing study website as noted in the ADDRESSES section. Comments on the expected impacts to be analyzed in the Tier 2 Study EIS are welcomed during the NOI comment period.

Anticipated Permits, Other Authorizations, and Cooperating and Participating Agencies

Anticipated permits and approvals (see NOI Additional Project Information Document (Table 7-1) for a detailed breakdown of anticipated permits and approvals) that could be required prior to the commencement of construction include:

• US Army Corps of Engineers (USACE) Civil Works approvals under the section 408/River and Harbors Act—section 14, and Clean Water Act section 404/River and Harbors Act—section 10, for review of impacts to Civil Works projects and the regulation of proposed discharges into Waters of the United States;

• United States Coast Guard (USCG) approval under the General Bridge Act/River and Harbors Act—section 9, for compliance with navigation requirements for bridges;

• Federal Aviation Administration (FAA) approval for Obstruction Evaluation/Airport Airspace Analysis, for construction activities near airports;

• Federal Emergency Management Agency (FEMA) approval under the National Flood Insurance Program;

• FHWA approval under section 4(f) of the U.S. Department of Transportation Act of 1966;

• National Park Service (NPS) approval under the Land and Water Conservation Fund Act, section 6(f), for approval for the conversion of land or facilities acquired under the Land and Water Conservation Fund;

• USFWS approvals under the Bald and Golden Eagle Protection Act, and Migratory Bird Treaty Act;

• USFWS and National Oceanic and Atmospheric Administration (NOAA) National Marine Fisheries Service (NMFS) approval under the Endangered Species Act and the Marine Mammal Act for federally protected species, as well as Fish and Wildlife Coordination Act, for the protection of species and coastal resources;

• NOAA NMFS approval under the Magnuson-Stevens Fishery Conservation and Management Act for Essential Fish Habitat;

• Natural Resources Conservation Service (NRCS) approval under the Farmland Protection Policy Act for the conversion of farmland;

• Maryland Department of the Environment (MDE) approvals under the Clean Water Act, section 401, Nontidal Wetlands Protection Act & Program, Sediment & Erosion Control Program, Stormwater Management regulations, Waterways Construction Statute, and MDE/Maryland Board of Public Works (BPW) approval under the Tidal Wetlands Act & Program, for consistency with water quality requirements and minimization of erosion, flooding, and impacts to wetlands;

• Maryland Department of Natural Resources (MDNR) approvals under the Coastal Zone Consistency & Coastal Zone Management Program, Forest Conservation Act, Nongame and Endangered Species Conservation Act, Reforestation Law, Roadside Tree Law, and MDNR Critical Area Commission approval under the Chesapeake Bay Critical Area Law, for the protection of roadside trees, forests, State threatened and endangered species, wetlands, and coastal areas;

• Maryland Department of Planning (MDP) coordination for the Maryland Smart Growth Act, for the preservation of resources and prevention of sprawling development into rural areas;

• State Historic Preservation Officer/Maryland Historical Trust (MHT) consultation under section 106 of the National Historic Preservation Act, including consultation with the Advisory Council on Historic Preservation (ACHP) as appropriate, for the protection of historic properties and resolution of any adverse effects; and

• SHA coordination for evaluation of alternatives that could affect SHA roadways and ROW.

Cooperating agencies include: USACE, USCG, EPA, NMFS, USFWS, NPS, SHA, MDE, and MDNR. Participating agencies include: the Federal Transit Administration (FTA), Advisory Council on Historic Preservation (ACHP), U.S. Navy—Naval Facilities Engineering Systems Command (NAVFAC), FEMA, FAA, Maryland Transit Administration (MTA), Maryland Port Administration (MPA), MDP, Maryland Department of Emergency Management (MDEM), BPW—Wetlands Division (BPW), MHT, Maryland Aviation Administration (MAA), Delaware Department of Transportation (DelDOT), Queen Anne's County, Anne Arundel County, and Baltimore Metropolitan Council (BMC).

The MDTA does not anticipate submitting applications for permits and approvals that require design-level detail as part of NEPA or immediately following completion of the NEPA environmental review process. Per 23 U.S.C. 139(d)(10), the aforementioned permits and authorizations should be completed by no later than 90 days after the issuance of the Record of Decision. However, for this project the MDTA has requested in accordance with 23 U.S.C. 139(d)(10)(C)(ii) that those permits and authorizations follow a different timeline because the construction date is not expected until 2032. The development and review of applications for permits and other approvals will be completed as more detailed design and construction engineering progresses beyond the Tier 2 Study EIS. The NEPA study will be coordinated with the federal and state regulatory agencies based on their role as Cooperating and Participating Agencies.

Anticipated permits and approvals that could be required prior to the commencement of construction are also provided in the NOI Additional Project Information Document, which is available for review in the docket established for this study and on the Chesapeake Bay Crossing study website as noted in the ADDRESSES section.

Scoping and Public Review

Public and agency outreach will include formal Public Scoping Meetings in December 2024. A virtual meeting will be held on December 4, 2024, followed by two in person meetings on December 9 and 11, 2024. The December 2024 Scoping Meetings will present information from the NOI Additional Project Information Document, including existing environmental conditions, the proposed ARDS for the proposed action, and their potential environmental impacts. Public Hearings on the Tier 2 Study DEIS are anticipated in late 2025.

Pre-NOI public engagement activities for the Tier 2 Study were initiated shortly after FHWA issued the Tier 1 Study FEIS/ROD in spring 2022. To date, the MDTA has held two sets of Public Open Houses (one virtual Open House and two in-person Open Houses in September 2022 and one virtual Open House and two in-person Open Houses in September 2023), a Transit and Bicycle/Pedestrian Listening Meeting, and numerous community engagement events. The September 2022 meetings summarized the results of the Tier 1 Study EIS, described the objectives of the Tier 2 Study and presented next steps in the Tier 2 Study. The September 2023 Open Houses presented the study's proposed Purpose and Need and the alternatives development process. Additional information on public engagement activities to date is provided in the NOI Additional Project Information Document available for review in the docket established for this study and on the Chesapeake Bay Crossing study website as noted in the ADDRESSES section of this notice.

Nineteen Interagency Coordination Meetings (ICMs) to facilitate Cooperating and Participating agency coordination have been held since June 2022. The MDTA and FHWA present information at ICMs about a variety of Tier 2 Study topics and seek agency feedback. All Cooperating and Participating agencies are encouraged to provide comments at ICMs. The ICMs will continue to be held throughout the NEPA environmental review process and development of the EIS. Additional information on agency coordination to date are provided in the NOI Additional Project Information Document available for review in the docket established for this study and on the Chesapeake Bay Crossing study website as noted in the ADDRESSES section of this notice.

Public notice has been given of the date, time, and location of the Public Scoping Meetings. To assist in determining the scope of issues to be addressed and identifying the potential for important issues related to information in the NOI Additional Project Information Document, the public will have the opportunity to submit written comments at the Public Scoping Meetings and during the scoping comment period beginning on the date of this NOI publication. Public input received during the scoping process will be considered in the development of the Tier 2 Study EIS. Once complete, the Tier 2 Study DEIS will be available for public and agency review and comment prior to the DEIS Public Hearing and for public review at the Tier 2 Study DEIS Public Hearing. All substantive public comments on the Tier 2 Study DEIS will be addressed in the Tier 2 Study FEIS.

The FHWA intends to issue a single document that consists of the Tier 2 Study FEIS and ROD pursuant to 49 U.S.C. 304a(b) [and 23 U.S.C. 139(n)(2)] unless FHWA determines that statutory criteria or practicability considerations preclude issuance of such a combined document.

Schedule for the Decision-Making Process

The Tier 2 Study EIS schedule will be established as part of the requirements of the NEPA environmental review process under 23 U.S.C. 139 and will comply with 40 CFR 1501.10(b)(2), which requires that environmental reviews for major infrastructure projects occur within two years, and all necessary authorizations be issued efficiently and in a timely manner, in cooperation with FHWA.

Following the issuance of this NOI, FHWA and MDTA will coordinate with the Participating and Cooperating Agencies to develop study documentation and the Tier 2 Study DEIS.

The anticipated study schedule is outlined below:

• Public Scoping Meetings (December 2024)

• End of Scoping Comment Period (January 2025)

• Evaluation of Alternatives Retained for Detailed Study (February 2025-June 2025)

• MDTA's Recommended Preferred Alternative (July 2025)

• Tier 2 Study DEIS Notice of Availability (NOA) (November 2025)

• Tier 2 Study DEIS Comment Period and Public Hearings (December 2025)

• Tier 2 Study Final EIS/ROD (November 2026)

• Procurement for Final Design (Fall 2026-Spring 2028)

• Commence Final Design (Spring 2028)

• Permit Applications/Authorization Requests Submitted (Spring 2030)

• All Permit Decisions and Authorizations Issued (Spring 2031)

• Commence Construction (Summer 2032)

Request for Identification of Potential Alternatives, Information, and Analyses Relevant to the Proposed Action

With this Notice, FHWA and MDTA request and encourage State, Tribal, and local government agencies, and the public, to review the NOI and NOI Additional Project Information Document and submit comments on any aspect of the study. To ensure that all potential alternatives, important issues, or environmental impacts and analyses relevant to the proposed action are considered in the Tier 2 Study DEIS, comments and suggestions are invited from all interested parties. Specifically, agencies and the public are asked to comment on the purpose and need, proposed ARDS, the existing environmental conditions and potential impacts, and the identification of any relevant information, studies, or analyses concerning impacts affecting the quality of the human environment for consideration by the Lead and Cooperating Agencies in developing the Tier 2 Study DEIS. The purpose of this request is to bring relevant comments and information to FHWA's and MDTA's attention as early in the process as possible to enable the agencies to make maximum use of this information in decision making.

Comments must be received by January 13, 2025. Comments or questions concerning this proposed action, including comments relative to proposed ARDS, information and analyses, should be directed to FHWA and MDTA at the addresses provided in the ADDRESSES section of this notice.

Authority: 42 U.S.C. 4321 et seq.; 23 U.S.C. 139; 23 CFR part 771.

Valeriya Remezova,
Division Administrator, Federal Highway Administration.

[FR Doc. 2024-26545 Filed 11-14-24; 8:45 am]

BILLING CODE 4910-22-P